FEDERAL COMMUNICATIONS COMMISSION

47 CFR Part 74

[DA 03-622; RM-10666]

National Translation Association's Petition for Rulemaking To Establish a Rural Translator Service

AGENCY: Federal Communications Commission.

ACTION: Proposed rule; petition for rulemaking.

SUMMARY: The Media Bureau (“Bureau”) seeks comment on a proposal to establish a “Rural Translator Service.” The National Translator Association asserts that implementation of this service will help to ensure the delivery of broadcast services to rural areas. According to National Translator Association, the Commission's goals of transitioning broadcast television from analog to digital service, providing for availability and attendant benefits of high definition television, and providing for free over-the-air broadcast television, both commercial and non-commercial, can only be accomplished in rural areas by the use of translator stations.

DATES: Comments due on or before May 16, 2003. Reply comments due on or before June 16, 2003.

ADDRESSES: Federal Communications Commission, 445 12th Street, SW., Washington, DC 20554. See SUPPLEMENTARY INFORMATION for filing instructions.

FOR FURTHER INFORMATION CONTACT: Brad Lerner (202) 418-7066, Video Division, Media Bureau.

SUPPLEMENTARY INFORMATION: This is a synopsis of the Commission's Public Notice, RM-10666, released March 6, 2003. The full text of this Public Notice is available for inspection and copying during normal business hours in the FCC Reference Room, Room CY-A257, Portals II, 445 12th Street, SW., Washington, DC, and also may be purchased from the Commission's copy contractor, Qualex International, Portals II, 445 12th Street, SW., Room CY B402, Washington, DC 20554.

Synopsis of Public Notice

The National Translator Association (“NTA”) seeks to establish a “Rural Translator Service.” Among other things, NTA proposes that in order for an applicant to apply in this “Rural Translator Service,” it must propose a translator that can provide a signal to an area in which its residents are unable to receive at least four “free” primary over-the-air television signals, based on a combination of predictive methods. For areas outside the predicted Grade B contour of a television station, the NTA would presume that no service is received. For areas within a predicted Grade B contour, applicants would be permitted to use the “Longley Rice Terrain Dependant Population Count” and the methods prescribed in the FCC Office of Engineering and Technology Bulletin 69 (“OET 69”) to show that actual service is not available. NTA also proposes to limit the effective radiated power of these stations to 1 kilowatt for UHF Translators and 100 watts for VHF Translators. The NTA proposes that applications for stations in the Rural Translator Service be processed on an expedited basis using a “one-day rolling window or day-by-day cutoff procedures for mutually exclusive applications” in lieu of the Commission's filing window procedures for the Low Power Television Service.

Pursuant to sections 1.415 and 1.419 of the Commission's rules, 47 CFR 1.415, 1.419, interested parties may file comments on or before May 16, 2003, and reply comments on or before June 16, 2003. Comments may be filed using the Commission's Electronic Comment Filing System (ECFS) or by filing paper copies. See Electronic Filing of Documents in Rulemaking Proceedings, 63 FR 24121 (1998).

Comments filed through the ECFS can be sent as an electronic file via the Internet to http://www.fcc.gov/cgb/ecfs/. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form.” A sample form and directions will be sent in reply. Parties who choose to file by paper must file an original and four copies of each filing. If more than one docket or rulemaking number appear in the caption of this proceeding, commenters must submit two additional copies for each additional docket or rulemaking number.

Filings can be sent by hand or messenger delivery, by commercial overnight courier, or by first-class or overnight U.S. Postal Service mail (although we continue to experience delays in receiving U.S. Postal Service mail).

The Commission's contractor, Vistronix, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission.

Federal Communications Commission.
Barbara A. Kreisman,
Chief, Video Division, Media Bureau.

[FR Doc. 03-6274 Filed 3-14-03; 8:45 am]

BILLING CODE 6712-01-P